DEPARTMENT OF COMMERCE

International Trade Administration

[A-570-028]

Hydrofluorocarbon Blends From the People's Republic of China: Preliminary Results of the Antidumping Duty Administrative Review and Preliminary Determination of No Shipments; 2023-2024

AGENCY: Enforcement and Compliance, International Trade Administration, Department of Commerce.

SUMMARY: The U.S. Department of Commerce (Commerce) preliminarily determines that sales of hydrofluorocarbon blends (HFC blends) from the People's Republic of China (China) were made at less than normal value (NV) during the period of review (POR) August 1, 2023, through July 31, 2024. In addition, we are making a preliminary determination of no shipments for one company. We invite interested parties to comment on these preliminary results.

DATES: Applicable February 10, 2026.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On August 19, 2016, Commerce published in the Federal Register an antidumping duty (AD) order on HFC blends from China.¹ On September 20, 2024, based on a timely request for review from the American HFC Coalition,² in accordance with 19 CFR 351.221(c)(1)(i), we initiated an administrative review of the Order covering 21 exporters of the subject merchandise.³

¹ See Hydrofluorocarbon Blends from the People's Republic of China: Antidumping Duty Order, 81 FR 55436 (August 19, 2016) (Order).

² See HFC Coalition's Letter, “Request for Administrative Review,” dated August 30, 2024.

³ See Initiation of Antidumping and Countervailing Duty Administrative Reviews, 89 FR 77079 (September 20, 2024) (Initiation Notice).

On December 9, 2024, Commerce tolled certain deadlines in this administrative proceeding by 90 days.⁴ On July 17, 2025, Commerce extended the deadline for the preliminary results of this administrative review by 111 days.⁵ Due to the lapse in appropriations and Federal Government shutdown, on November 14, 2025, Commerce tolled all deadlines in administrative proceedings by 47 days.⁶ Additionally, due to a backlog of documents that were electronically filed via Enforcement and Compliance's Antidumping and Countervailing Duty Centralized Electronic Service System (ACCESS) during the Federal Government shutdown, on November 24, 2025, Commerce tolled all deadlines in administrative proceedings by an additional 21 days.⁷ Finally, on January 2, 2026, Commerce extended the deadline for the preliminary results by nine days.⁸ Accordingly, the deadline for these preliminary results is now February 5, 2026.

⁴ See Memorandum, “Tolling of Deadlines for Antidumping and Countervailing Duty Proceedings,” dated December 9, 2024.

⁵ See Memorandum, “Extension of Deadline for Preliminary Results of 2023-2024 Antidumping Duty Administrative Review,” dated July 17, 2025.

⁶ See Memorandum, “Deadlines Affected by the Shutdown of the Federal Government,” dated November 14, 2025.

⁷ See Memorandum, “Tolling of all Case Deadlines,” dated November 24, 2025.

⁸ See Memorandum, “Second Extension of Deadline for Preliminary Results of 2023-2024 Antidumping Duty Administrative Review,” dated January 2, 2026.

For a complete description of the events that followed the initiation of this review, see the Preliminary Decision Memorandum.⁹ The Preliminary Decision Memorandum is a public document and is on file electronically via ACCESS. ACCESS is available to registered users at https://access.trade.gov. In addition, a complete version of the Preliminary Decision Memorandum can be accessed directly at https://access.trade.gov/public/FRNoticesListLayout.aspx. A list of the topics discussed in the Preliminary Decision Memorandum is attached in Appendix I of this notice.

⁹ See Memorandum, “Decision Memorandum for the Preliminary Results of the 2023-2024 Antidumping Duty Administrative Review of Hydrofluorocarbon Blends from the People's Republic of China,” dated concurrently with, and hereby adopted by, this notice (Preliminary Decision Memorandum).

Scope of the Order

The products covered by the Order are shipments of HFC blends from China. For a full description of the scope of the Order, see the Preliminary Decision Memorandum.

Preliminary Determination of No Shipments

Pursuant to 19 CFR 351.213(d)(3), Commerce will rescind an administrative review when there are no reviewable entries of subject merchandise during the POR for which liquidation is suspended.¹⁰ Normally, upon completion of an administrative review, the suspended entries are liquidated at the AD assessment rate calculated for the review period.¹¹ Therefore, for an administrative review to be conducted, there must be a suspended entry that Commerce can instruct U.S. Customs and Border Protection (CBP) to liquidate at the AD assessment rate calculated for the POR.¹²

¹⁰ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹¹ See 19 CFR 351.212(b)(1).

¹² See 19 CFR 351.213(d)(3).

On October 21, 2024, Zhejiang Yonghe Refrigerant Co., Ltd. (Zhejiang Yonghe) reported that it made no shipments of subject merchandise to the United States during the POR.¹³ Based on the no-shipment certification and information obtained from CBP,¹⁴ we preliminarily determine that Zhejiang Yonghe did not have any shipments of subject merchandise to the United States during the POR.

¹³ See Zhejiang Yonghe's Letter, “Submission of Statement of No Shipment,” dated October 21, 2024.

¹⁴ See Memorandum, “Release of U.S. Customs and Border Protection Entry Data,” dated October 23, 2024.

Consistent with Commerce's practice in non-market economy (NME) cases, we have not rescinded this review with respect to Zhejiang Yonghe but will continue our review of this company and issue instructions to CBP based on the final results of the review.¹⁵

¹⁵ See Non-Market Economy Antidumping Proceedings: Assessment of Antidumping Duties, 76 FR 65694 (October 24, 2011 (Non-Market Economy Assessment Notice); see also Certain Activated Carbon from the People's Republic of China: Preliminary Results of Antidumping Duty Administrative Review, and Preliminary Determination of No Shipments; 2019-2020, 86 FR 33988 (June 28, 2021).

Preliminary Affiliation and Single Entity Determination

Based on record evidence in this review, on July 28, 2025, we preliminarily determined that: (1) the following companies are affiliated, pursuant to section 771(33)(F) of the Tariff Act of 1930, as amended (the Act): Zhejiang Sanmei Chemical Industry Co., Ltd. (Sanmei), Jiangsu Sanmei Chemical Ind. Co., Ltd. (Jiangsu Sanmei), and Fujian Qingliu Dongying Chemical Ind. Co., Ltd. (Fujian Qingliu); and (2) pursuant to 19 CFR 351.401(f)(1)-(2), Sanmei, Jiangsu Sanmei, and Fujian Qingliu should be collapsed and treated as a single entity (collectively, Sanmei). For additional information, see the Preliminary Affiliation and Collapsing Memorandum.¹⁶

¹⁶ See Memorandum, “Preliminary Affiliation and Collapsing Memorandum,” dated July 29, 2025 (Preliminary Affiliation and Collapsing Memorandum).

Separate Rate

Commerce preliminarily determines that Sanmei, the only company individually examined in this review, is eligible to receive a separate rate.¹⁷

¹⁷ See Preliminary Decision Memorandum at “Separate Rates.”

China-Wide Entity

Under Commerce's policy regarding the conditional review of the China-wide entity,¹⁸ the China-wide entity will not be under review unless a party specifically requests, or Commerce self-initiates, a review of the entity. Because no party requested a review of the China-wide entity in this review, the entity is not under review, and the entity's rate (i.e., 216.37 percent) is not subject to change.¹⁹ Commerce considers the companies under review listed in Appendix II to this notice, which did not file a separate rate application or demonstrate separate rate eligibility, to be part of the China-wide entity.²⁰

¹⁸ See Antidumping Proceedings: Announcement of Change in Department Practice for Respondent Selection in Antidumping Duty Proceedings and Conditional Review of the Nonmarket Economy Entity in NME Antidumping Duty Proceedings, 78 FR 65963 (November 4, 2013).

¹⁹ See Order.

²⁰ See Initiation Notice, 89 FR at 77080 (“All firms listed below that wish to qualify for separate rate status in the administrative reviews involving NME countries must complete, as appropriate, either a separate rate application or certification, as described below.”).

Methodology

Commerce is conducting this review in accordance with section 751(a)(1)(B) of the Act. We calculated export price in accordance with section 772 of the Act. Because China is an NME country within the meaning of section 771(18) of the Act, we calculated NV in accordance with section 773(c) of the Act. For a full description of the methodology underlying our conclusions, see the Preliminary Decision Memorandum.²¹

²¹ See Preliminary Decision Memorandum at “Discussion of the Methodology.”

Preliminary Results of Review

Commerce preliminarily determines that the following weighted-average dumping margin exists for the period August 1, 2023, through July 31, 2024:

Exporter | Weighted-average dumping margin (percent)
Zhejiang Sanmei Chemical Industry Co., Ltd.; Jiangsu Sanmei Chemical Ind. Co., Ltd.; Fujian Qingliu Dongying Chemical Ind. Co., Ltd | 182.61

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.²² Rebuttal briefs, limited to issues raised in the case briefs, may be filed no later than five days after the date for filing case briefs.²³ Interested parties who submit case or rebuttal briefs in this proceeding must submit: (1) a table of contents listing each issue; and (2) a table of authorities.²⁴ All briefs must be filed electronically using ACCESS.²⁵ An electronically filed document must be received successfully in its entirety in ACCESS by 5:00 p.m. Eastern Time on the established deadline.

²² See 19 CFR 351.309(c); see also Administrative Protective Order, Service, and Other Procedures in Antidumping and Countervailing Duty Proceedings, 88 FR 67069, 67077 (September 29, 2023) (APO and Service Final Rule).

²³ See 19 CFR 351.309(d).

²⁴ See 19 CFR 351.309(c)(2) and (d)(2).

²⁵ See 19 CFR 351.303.

As provided under 19 CFR 351.309(c)(2)(iii) and (d)(2)(iii), we request that interested parties provide at the beginning of their briefs a public, executive summary for each issue raised in their briefs.²⁶ Further, we request that interested parties limit their public executive summary of each issue to no more than 450 words, not including citations. We intend to use the public executive summaries as the basis of the comment summaries included in the issues and decision memorandum that will accompany the final determination in this review. We request that interested parties include footnotes for relevant citations in the public executive summary of each issue. Note that Commerce has amended certain of its requirements pertaining to the service of documents in 19 CFR 351.303(f).²⁷

²⁶ We use the term “issue” here to describe an argument that Commerce would normally address in a comment of the Issues and Decision Memorandum.

²⁷ See APO and Service Final Rule.

Pursuant to 19 CFR 351.310(c), interested parties who wish to request a hearing must submit a written request to the Assistant Secretary for Enforcement and Compliance, U.S. Department of Commerce, within 30 days after the date of publication of this notice. Hearing requests should contain: (1) the party's name, address and telephone number; (2) the number of participants; (3) whether any participant is a foreign national; and (4) a list of issues to be discussed. Issues raised in the hearing will be limited to those raised in the respective case briefs. If a request for a hearing is made, Commerce will inform interested parties of the scheduled date for the hearing.²⁸

²⁸ See 19 CFR 351.310(d).

Final Results of Review

Unless the deadline is extended pursuant to section 751(a)(3)(A) of the Act and 19 CFR 351.213(h)(2), Commerce intends to issue the final results of this administrative review, including the results of our analysis of the issues raised in any case briefs, not later than 120 days after the date of publication of this notice.

Assessment Rates

Upon completion of this administrative review, Commerce shall determine, and CBP shall assess, antidumping duties on all appropriate entries covered by this review. The final results of this review shall be the basis for the assessment of antidumping duties on entries of merchandise covered by this review and for future deposits of estimated duties, where applicable.²⁹

²⁹ See section 751(a)(2)(C) of the Act.

For Sanmei, Commerce calculated importer-specific ad valorem duty assessment rates based on the ratio of the total amount of dumping calculated for Sanmei's examined sales to the total entered value of those sales. Where either a respondent's weighted-average dumping margin is zero or de minimis within the meaning of 19 CFR 351.106(c)(1), or an importer-specific rate is zero or de minimis, we will instruct CBP to liquidate the appropriate entries without regard to antidumping duties.³⁰

³⁰ See 19 CFR 351.212(b)(1).

Pursuant to Commerce's assessment practice,³¹ for entries that were not reported in the U.S. data submitted by Sanmei, we will instruct CBP to liquidate such entries at the China-wide rate (i.e., 216.37 percent).³² Additionally, where Commerce determines that an exporter under review had no shipments of subject merchandise to the United States during the POR, any suspended entries of subject merchandise that entered under that exporter's CBP case number during the POR will be liquidated at the dumping margin assigned to the China-wide entity.

³¹ See Non-Market Economy Assessment Notice, 76 FR at 65694.

³² See Order, 81 FR at 55438.

For the companies listed in Appendix II found to be part of the China-wide entity, we will instruct CBP to liquidate all entries of subject merchandise during the POR exported by these companies at the China-wide rate of 216.37 percent. Further, for Zhejiang Yonghe, the company we preliminarily determined to have no shipments, we will instruct CBP to assess antidumping duties on all appropriate entries at a rate equal to the cash deposit rate of estimated antidumping duties required at the time of entry, or withdrawal from warehouse, for consumption, in accordance with 19 CFR 351.212(c)(1)(i).

Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for shipments of the subject merchandise entered, or withdrawn from warehouse, for consumption on or after the publication date, as provided for by section 751(a)(2)(C) of the Act: (1) for Sanmei, the cash deposit rate will be equal to the weighted-average dumping margin established in the final results of this administrative review (except, if the rate is zero or de minimis, then a cash deposit rate of zero will be required); (2) for previously examined exporters not listed above that have received a separate rate in a prior segment of this proceeding, the cash deposit rate will continue to be the existing exporter-specific rate published for the most recently-completed segment of this proceeding; (3) for all Chinese exporters of subject merchandise that have not been found to be entitled to a separate rate, the cash deposit rate will be that for the China-wide entity (i.e., 216.37 percent); and (4) for all non-Chinese exporters of subject merchandise which have not received their own rate, the cash deposit rate will be the rate applicable to the Chinese exporter(s) that supplied that non-Chinese exporter. These cash deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

This administrative review and notice are issued and published in accordance with sections 751(a)(1) and 777(i)(1) of the Act, 19 CFR 351.213(d)(4), and 19 CFR 351.221(b)(4).

Dated: February 5, 2026.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Currency Conversion

VI. Recommendation

Appendix II

Companies Considered To Be Part of the China-Wide Entity

1. Best Inc. Limited

2. Changzhou Vista Chemical Co., Ltd.

3. Daikin Fluorochemicals (China) Co., Ltd.

4. Dongyang Weihua Refrigerants Co., Ltd.

5. Hangzhou Icetop Refrigeration Co., Ltd.

6. ICool Chemical Co. Ltd.

7. Oasis Chemical Co., Limited

8. Qingdao Shingchem New Material Co.

9. Sinochem Environmental Protection Chemicals (Taicang) Co., Ltd.

10. Superfy Industrial Limited

11. Tianjin Synergy Gases Products, Co., Ltd.

12. Weitron International Refrigeration Equipment (Kunshan) Co., Ltd.

13. Weitron International Refrigeration Equipment Co., Ltd.

14. Yangfar Industry Co., Ltd.

15. Zhejiang Hoating Lighting Co., Ltd.

16. Zhejiang Lantian Environmental Protection Fluoro Material Co. Ltd.

17. Zhejiang Quzhou Lianzhou Refrigerants Co., Ltd.

18. Zhejiang Zhonglan Refrigeration Technology Co., Ltd.

[FR Doc. 2026-02640 Filed 2-9-26; 8:45 am]

BILLING CODE 3510-DS-P